COMMITTEE FOR PURCHASE FROM PEOPLE WHO ARE BLIND OR SEVERELY DISABLED

Agency Information Collection Activities; Proposed Information Collection; Comment Request; Correction

ACTION: Notice of Correction.

AGENCY: Committee for Purchase From People Who Are Blind or Severely Disabled.

SUMMARY: On Tuesday, July 3, 2012, the Committee published a Notice in Federal Register Volume 77, Number 128, Page 39486 of its intent to submit to the Office of Management and Budget for its review an information collection concerning Committee Forms 403 and 404. The date cited, July 28, 2009, for persons interested in submitting comments about the collection was incorrect and should have read July 28, 2012.

Barry S. Lineback,
Director, Business Operations.

[FR Doc. 2012-17093 Filed 7-12-12; 8:45 am]

BILLING CODE 6353-01-P